DEPARTMENT OF TRANSPORTATION

Surface Transportation Board

[STB Docket No. AB-847 (Sub-No. 1X), STB Docket No. AB-856 (Sub-No. 1X)]

Toledo, Peoria & Western Railway Corporation-Discontinuance Exemption-in Starke and Pulaski Counties, IN; J.K. Line, Inc.—Abandonment Exemption—in Starke and Pulaski Counties, IN

On July 31, 2003, Toledo, Peoria & Western Railway Corporation (TP&W) and J.K. Line, Inc. (J.K.) (collectively, petitioners) jointly filed with the Surface Transportation Board (Board) a petition under 49 U.S.C. 10502 for exemption from the provisions of 49 U.S.C. 10903 for J.K. to abandon and for TP&W to discontinue service over a 17-mile line of railroad between milepost 199, near North Judson, and milepost 183, near Monterey, at the end of the line, in Starke and Pulaski Counties, IN.¹ The line traverses U.S. Postal Service Zip Codes 46511 and 46960.

¹ TP&W is an indirect subsidiary of RailAmerica, Inc. See RailAmerica, Inc.-Control Exemption-Florida Rail Lines, Inc., Toledo, Peoria and Western Railroad Corporation, Marksman Corporation, and Toledo, Peoria & Western Railway Corporation, STB Finance Docket No. 33777 (STB served Sept. 17, 1999). TP&W acquired J.K., a subsidiary of Cargill Incorporated, in RailAmerica, Inc., et al.-Control and Merger Exemption-A&R Line, Inc., and J.K. Line, Inc., STB Finance Docket No. 34269 (STB served Dec. 12, 2002).

The line does not contain federally granted rights-of-way. Any documentation in J.K.'s possession will be made available promptly to those requesting it.

In STB Docket No. AB-856 (Sub-No. 1X), J.K. is proposing to abandon a line that constitutes its entire rail system. When issuing abandonment authority for railroad lines that constitute the carrier's entire system, the Board does not impose labor protection, except in specifically enumerated circumstances. See Northampton and Bath R. Co.-Abandonment, 354 I.C.C. 784, 785-86 (1978) (Northampton). Therefore, if the Board grants the petition for exemption, in the absence of a showing that one or more of the exceptions articulated in Northampton are present, no labor protective conditions would be imposed. In STB Docket No. AB-847 (Sub-No. 1X), the interests of railroad employees will be protected by the conditions set forth in Oregon Short Line R. Co.-Abandonment-Goshen, 360 I.C.C. 91 (1979).

By issuance of this notice, the Board is instituting an exemption proceeding pursuant to 49 U.S.C. 10502(b). A final decision will be issued by November 18, 2003.

Any offer of financial assistance (OFA) under 49 CFR 1152.27(b)(2) will be due no later than 10 days after service of a decision granting the petition for exemption. Each OFA must be accompanied by a $1,100 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than September 9, 2003. Each trail use request must be accompanied by a $150 filing fee. See 49 CFR 1002.2(f)(27).

All filings in response to this notice must refer to STB Docket Nos. AB-847 (Sub-No. 1X) and AB-856 (Sub-No. 1X) and must be sent to: (1) Surface Transportation Board, 1925 K Street, NW., Washington, DC 20423-0001; and (2) Louis E. Gitomer, Esq., Of Counsel, Ball Janik LLP, 1455 F Street, NW., Suite 225, Washington, DC 20005. Replies to the petition are due on or before September 9, 2003.

Persons seeking further information concerning abandonment and discontinuance procedures may contact the Board's Office of Public Services at (202) 565-1592 or refer to the full abandonment or discontinuance regulations at 49 CFR part 1152. Questions concerning environmental issues may be directed to the Board's Section of Environmental Analysis (SEA) at (202) 565-1539. (Assistance for the hearing impaired is available through the Federal Information Relay Service (FIRS) at 1-800-877-8339.)

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at www.stb.dot.gov.

By the Board, David M. Konschnik, Director, Office of Proceedings.
Decided: August 13, 2003.
Vernon A. Williams,
Secretary.

[FR Doc. 03-21196 Filed 8-19-03; 8:45 am]

BILLING CODE 4915-00-P